NUCLEAR REGULATORY COMMISSION

[Docket Nos. 52-025 and 52-026; ASLBP No. 16-944-01-LA-BD01]

Southern Nuclear Operating Company, Inc.; Establishment of Atomic Safety and Licensing Board

Pursuant to delegation by the Commission, see 37 FR 28710 (Dec. 29, 1972), and the Commission's regulations, see, e.g., 10 CFR 2.104, 2.105, 2.300, 2.309, 2.313, 2.318, 2.321, notice is hereby given that an Atomic Safety and Licensing Board (Board) is being established to preside over the following proceeding: Southern Nuclear Operating Company, Inc. (Vogtle Electric Generating Plant, Units 3 and 4).

This proceeding involves an application by Southern Nuclear Operating Company, Inc. for an amendment to Facility Operating License Nos. NPF-91 and NPF-92 for operation of the Vogtle Electric Generating Plant, Units 3 and 4, located in Burke County, Georgia. In response to a notice filed in the Federal Register, see 80 FR 60937 (Oct. 8, 2015), the Blue Ridge Environmental Defense League and its chapter Concerned Citizens of Shell Bluff filed a Petition to Intervene and Request for Hearing on December 7, 2015.

The Board is comprised of the following Administrative Judges:

Ronald M. Spritzer, Chairman, Atomic Safety and Licensing Board Panel, U.S. Nuclear Regulatory Commission, Washington, DC 20555-0001

Nicholas G. Trikouros, Atomic Safety and Licensing Board Panel, U.S. Nuclear Regulatory Commission, Washington, DC 20555-0001

Dr. James F. Jackson, Atomic Safety and Licensing Board Panel, U.S. Nuclear Regulatory Commission, Washington, DC 20555-0001

All correspondence, documents, and other materials shall be filed in accordance with the NRC E-Filing rule. See 10 CFR 2.302.

Dated: December 11, 2015.
E. Roy Hawkens,
Chief Administrative Judge, Atomic Safety and Licensing Board Panel.

[FR Doc. 2015-31875 Filed 12-17-15; 8:45 am]

BILLING CODE 7590-01-P